DEPARTMENT OF TRANSPORTATION

Federal Motor Carrier Safety Administration

[Docket No. FMCSA-2001-9664]

Drug Test Results Study

AGENCY: Federal Motor Carrier Safety Administration (FMCSA), DOT.

ACTION: Notice; extension of comment period.

SUMMARY: The FMCSA extends this notice's comment period until September 8, 2001. This is in response to two petitions for an extension of the comment period. The Motor Carrier Safety Improvement Act of 1999 (MCSIA) directs the Federal Motor Carrier Safety Administration (FMCSA) to conduct a study and report to the Congress on the feasibility and merits of requiring Medical Review Officers and employers to report verified positive drug test results for CDL drivers to the State that issued the driver's license. The FMCSA initiates this study on this issue and invites public comments on how the proposed rule will affect prospective regulated parties.

DATES: Please submit comments no later than September 8, 2001.

ADDRESSES: Mail or hand deliver comments to the U.S. Department of Transportation, Dockets Management Facility, Room PL-401, 400 Seventh Street, SW., Washington DC 20590, or submit electronically at http://dmses.dot.gov/submit. Please specify the number you are commenting on before listing your comments. All comments received will be available for examination and copying at the above address between 9 a.m. and 5 p.m., et., Monday through Friday, except Federal holidays. Those desiring notification of receipt of comments must include a self-addressed, stamped envelope or postcard or you may print the acknowledgment page that appears after submitting comments electronically.

FOR FURTHER INFORMATION CONTACT: For information about the status of this notice, you may contact Ms. Kaye Kirby, Office of Bus and Truck Standards and Operations, (202) 366-3109; for information about legal issues related to this notice, Mr. Michael Falk, Office of the Chief Counsel, (202) 366-1384, FMCSA, Department of Transportation, 400 Seventh Street, SW., Washington, DC 20590. Office hours are from 7:45 a.m. to 4:15 p.m., e.t., Monday through Friday, except Federal holidays.

SUPPLEMENTARY INFORMATION:

Electronic Access

You may see all the comments on the Document Management System (DMS) website at: http://dmses.dot.gov.

Background

On July 9, 2001, we published a notice announcing the initiation of a study required by Congress in the Motor Carrier Safety Improvement Act of 1999 (Public Law 106-159, 113 Stat. 1748), and seeking comments on the feasibility and merits of requiring Medical Review Officers and employers to report verified positive drug test results for CDL drivers to the State that issued the driver's license (66 FR 35825). Respondents to the notice were requested to address a number of questions focused on the burden imposed by such a reporting requirement on the employers, State, and others. Comments were requested by August 8, 2001.

Petition for Extension of Comment Period

On July 13, 2001, the American Trucking Associations (ATA) requested a 45 day extension for commenting. The ATA seeks to survey and solicit comments from its membership on this issue in an attempt to answer the 11 questions posed by the FMCSA in the July 9, 2001 notice. They also intend to contact the Federal Aviation Administration to investigate the manner in which that agency implemented a similar reporting requirement for drug and alcohol-related information concerning airline pilots. In addition, they plan to contact the numerous States that have explored the feasibility of a similar reporting process.

On July 26, 2001, the Owner-Operator Independent Drivers Association (OOIDA) requested a 45 day extension for commenting. The OOIDA would like the additional time to contact nearly 66,000 of its members who are small business truckers to address and gather information on issues related to safety, privacy, and procedure that are raised by the questions posed by the FMCSA in the notice.

The FMCSA finds good cause to extend the notice comment period closing date for 30 days, after the previous closing date of August 8, 2001, based upon the concerns raised by the petitioners. Because the agency faces a December 9, 2001 Congressional deadline on this issue, the extra 15 days requested by the petitioners cannot be granted. Accordingly, the new closing date is September 8, 2001.

Statutory History and Issues

Section 226 of the Motor Carrier Safety Improvement Act of 1999 (MCSIA) requires the Secretary of Transportation (Secretary) to conduct a study of the feasibility and merits of requiring Medical Review Officers or employers to report all verified positive controlled substances test results on any driver subject to controlled substances testing in 49 CFR part 382 to the State where the driver is licensed. In addition to the reporting requirement, this potential provision would require prospective employers to query the State that issued the CDL to determine if the State had any record of a verified positive drug test on such driver before hiring the driver. The MCSIA further required the Secretary to report on the study, together with any recommendations the Secretary determines appropriate, to Congress no later than two years after enactment of the law.

In carrying out this study, Congress directed the Secretary to conduct an assessment to identify methods for safeguarding the confidentiality of verified drug test results. In addition, the Secretary was asked to examine the costs, benefits, and safety impacts of requiring States to maintain records of verified positive drug test results; and whether a process should be established to allow drivers to correct errors in their records and to expunge information from their records after a reasonable period of time.

Comments and suggestions are invited concerning the feasibility and merits of employers and Medical Review Officers reporting positive drug test results to the State that issued the driver's CDL and the burden imposed by such a reporting requirement on the employers, State, and others. Of concern are operational, legal, confidentiality, and financial issues, as well as the type of database, database access, and database management that would be required.

Comments

Comments are requested specifically on the following questions:

(1) What impact would this requirement have on the motor carrier industry, drivers, Medical Review Officers, safety advocates, the States and other interested parties?

(2) What would be the benefits, costs, and safety impacts of requiring States to maintain records of verified positive drug test results?

(3) How would such a national record-keeping system safeguard the confidentiality of verified drug test results? What systems or methodology could do so?

(4) Should a process be established to allow drivers to correct errors in their records and to expunge information from their records after a reasonable period of time? What would be considered a reasonable period of time? What documentation would be adequate to justify expunging such a record?

(5) What are the potential costs involved in implementing this program for each State?

(6) What are the benefits of having verified positive drug test results housed in database so that each prospective employer would be required before hiring any driver to query the State that issued the commercial driver's license (CDL)? What are the disadvantages?

(7) What type of database should be used? Under what conditions should the information be released? Who should, or should not, have access to this information?

(8) Who should own and/or house the database?

(9) Should the database be centralized or distributed at the State level?

(10) How could we safeguard the confidentiality of verified drug test results?

(11) Are there States that currently have a program in place where verified positive drug test results are submitted to them? If so, what are their experiences and challenges?

Julie Anna Cirillo,
Acting Deputy Administrator.

[FR Doc. 01-21227 Filed 8-21-01; 8:45 am]

BILLING CODE 4910-EX-P